DEPARTMENT OF HEALTH AND HUMAN SERVICES

Health Resources and Services Administration

National Practitioner Data Bank: Change in User Fees

AGENCY: Health Resources and Services Administration, DHHS.

ACTION: Notice.

SUMMARY: The Health Resources and Services Administration (HRSA), Department of Health and Human Services (DHHS), is announcing a seventy-five cent decrease in the fee charged to entities authorized to request information from the National Practitioner Data Bank (NPDB) for all queries. The new fee will be $4.25. There will be no change to the $10.00 self-query fee.

DATES: The new fee is effective on July 1, 2003.

FOR FURTHER INFORMATION CONTACT: John Heyob, Director, Division of Practitioner Data Banks, Bureau of Health Professions, Health Resources and Services Administration, 7519 Standish Place, Suite 300, Rockville, Maryland 20857. Tel: (301) 443-2300. Email: policyanalysis@hrsa.gov.

SUPPLEMENTARY INFORMATION: The current fee structure ($5.00 per name) was announced in the Federal Register on July 11, 2001 (66 FR 36289) and became effective October 1, 2001. All entity queries are submitted and query responses received through the NPDB's Integrated Query and Reporting Service (IQRS) and paid via an electronic funds transfer or credit card.

The NPDB is authorized by the Health Care Quality Improvement Act of 1986 (the Act), Title IV of Pub. L. 99-660, as amended (42 U.S.C. 11101 et seq.). Section 427(b)(4) of the Act authorizes the establishment of fees for the costs of processing requests for disclosure and of providing such information.

Final regulations at 45 CFR part 60 set forth the criteria and procedures for information to be reported to and disclosed by the NPDB. Section 60.3 of these regulations defines the terms used in this announcement.

In determining any changes in the amount of the user fee, the Department uses the criteria set forth in § 60.12 (b) of the regulations, as well as allowable costs pursuant to Title II, Division G, Labor, Health and Human Services, Education, and Related Agencies Appropriation of the Consolidated Appropriations Resolution, 2003, Pub. L. 108-7, enacted on February 20, 2003. This Act requires that the Department recover the full costs of operating the Data Bank through user fees. Paragraph (b) of the regulations states:

“The amount of each fee will be determined based on the following criteria:

(1) Use of electronic data processing equipment to obtain information—the actual cost for the service, including computer search time, runs, printouts, and time of computer programmers and operators, or other employees, (2) Photocopying or other forms of reproduction, such as magnetic tapes—actual cost of the operator's time, plus the cost of the machine time and the materials used, (3) Postage—actual cost, and (4) Sending information by special methods requested by the applicant, such as express mail or electronic transfer—the actual cost of the special service.”

Based on analysis of the comparative costs of the various methods for filing and paying for queries, the Department is reducing all the entity query fees by $0.75 per name. The practitioner self-query fee remains at $10. This price decrease is justified after an evaluation of the Data Bank's operational costs. The implementation of the Data Bank's all-electronic process for querying, reporting, and payment, the Web-based IQRS system, has resulted in a decrease in the Data Bank operating expenditures. In keeping with the Act, and pursuant to the requirements of § 60.2 of the regulations, there are sufficient funds to recover the full costs of operating the Data Bank with a decrease in the user fee.

When a query is for information on one or more physicians, dentists, or other health care practitioners, the appropriate fee will be $4.25 multiplied by the number of individuals about whom information is being requested. For examples, see the table below.

Query method | Fee per name in query | Examples
Entity query (Via Internet with electronic payment) | $4.25 | 10 names in query. 10 × $4.25 = $42.50.
Practitioner self-query | 10.00 | One self-query = $10.00.

The Department will continue to review the user fee periodically, and will revise it as necessary. Any changes in the fee and their effective date will be announced in the Federal Register.

Dated: April 9, 2003.
Elizabeth M. Duke,
Administrator.

[FR Doc. 03-9871 Filed 4-21-03; 8:45 am]

BILLING CODE 4165-15-P